DEPARTMENT OF LABOR

Employment and Training Administration

Notice of a Public Meeting of the Task Force on Apprenticeship Expansion

AGENCY: Employment and Training Administration (ETA), Labor.

ACTION: Notice.

SUMMARY: Pursuant to the Federal Advisory Committee Act (FACA) and its implementing regulations, notice is hereby given to announce the third public meeting of the Task Force on Apprenticeship Expansion on Thursday, March 15, 2018. The Task Force is a FACA committee established by Presidential Executive Order that is charged with identifying strategies and proposals to promote and expand apprenticeships, especially in sectors where apprenticeship programs are insufficient. The Task Force is solely advisory in nature, and will consider reports, comments, research, evidence, and existing practices as appropriate to develop recommendations for inclusion in its final report to the President. To achieve its mission, the Task Force will convene two additional meetings between April and May 2018; one meeting will convene virtually and one meeting will convene in person.

DATES: The meeting will begin at approximately 1:00 p.m. Eastern Daylight Time on Thursday, March 15, 2018, and adjourn at approximately 3:00 p.m. Eastern Daylight Time.

ADDRESSES: The meeting will be held at the U.S. Department of Labor, Frances Perkins Building, 200 Constitution Avenue NW, Washington, DC 20210. The Department will post any updates regarding the agenda and meeting logistics to the Task Force website: https://www.dol.gov/apprenticeship/task-force.htm.

FOR FURTHER INFORMATION CONTACT: Ms. Laurie Rowe, Senior Policy Advisor to the Secretary, U.S. Department of Labor, 200 Constitution Avenue NW, Washington, DC 20210, Telephone: (202) 693-2772 (this is not a toll-free number).

SUPPLEMENTARY INFORMATION:

I. Public Viewing Accommodations

In order to promote openness, and increase public participation, in person or web based viewing accommodations will be made available for members of the public to observe the meeting proceedings. Additional information will be provided on https://www.dol.gov/apprenticeship/task-force.htm. Members of the public interested in the viewing accommodations, must register via the registration link below, space is limited and in person participants are encouraged to arrive 30 minutes early to allow for security clearance into the U.S. Department of Labor, Frances Perkins Building.

Security and Transportation Instructions for Frances Perkins Building

Meeting participants should use the visitor's entrance to access the Frances Perkins Building, one block north of Constitution Avenue on 3rd and C Streets NW. For security purposes:

1. Visitors must present valid photo identification (ID) to receive a visitor badge.

2. Visitors must know the name of the event you are attending: The meeting event is the Task Force on Apprenticeship Expansion meeting.

3. Visitor badges are issued by the security officer at the Visitor Entrance located at 3rd and C Streets NW, as described above.

4. Laptops and other electronic devices may be inspected and logged for identification purposes.

5. Due to limited parking options, Metrorail is the easiest way to travel to the Frances Perkins Building. For individuals wishing to take Metrorail, the closest metro stop to the building is Judiciary Square on the Red Line.

Notice of Intent To Attend the Meeting and Submission of a Written Statement

Interested members of the public must register for the Task Force meeting by Thursday, March 12, 2018, via the public registration website using the following link: https://www.apprenticeshiptaskforce.com/reg/. Additionally, individuals with special needs and/or disabilities that will require special accommodations should send an email to Apprenticeshiptaskforce@dol.gov with the subject line “Special Accommodations for the March 2018 Task Force Meeting” no later than Tuesday, March 6, 2018.

The tentative agenda for this meeting includes the following:

• Updates Since February 2018 Meeting

• Updates from the Subcommittees

• Next Meeting and Next Steps

Also in the interest of increasing public participation, any member of the public who wishes to provide a written statement should send it via electronic mail to Apprenticeshiptaskforce@dol.gov, subject line “Public Comment March 2018 Task Force Meeting.” The agenda and meeting logistics may be updated between the time of this publication and the scheduled date of the Task Force meeting. All meeting updates will be posted to the Task Force website: https://www.dol.gov/apprenticeship/task-force.htm.

Rosemary Lahasky,
Deputy Assistant Secretary for the Employment and Training Administration.

[FR Doc. 2018-03535 Filed 2-20-18; 8:45 am]

BILLING CODE 4510-FR-P